SMALL BUSINESS ADMINISTRATION

Reporting and Recordkeeping Requirements Under OMB review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before March 30, 2015.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: SBA uses this information collection for proper oversight within the scope of the Small Business Act to assess NMVC Program participants. Only the six NMVC Companies in the NMVC program will be required to submit the forms in this information collection. Although no new NMVCCs are anticipated, the information collected in the application forms in part of the contractual obligation of each NMVCC, and therefore must be used for any legal or other structural changes.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

Title: NMVC Program Application, Funding and Reporting.

Description of Respondents: NMVC participants.

Form Numbers: SBA Forms 2210, 2211, 2216, 2185, 2219, 2217.

Estimated Annual Respondents: 378.

Estimated Annual Responses: 378.

Estimated Annual Hour Burden: 1,818.

Curtis B. Rich,
Management Analyst.

[FR Doc. 2015-04071 Filed 2-26-15; 8:45 am]

BILLING CODE 8025-01-P